DEPARTMENT OF COMMERCE

National Oceanic and Atmospheric Administration

RIN 0648-XC484

Fisheries of the South Atlantic and the Gulf of Mexico; South Atlantic Fishery Management Council (SAFMC) and Gulf of Mexico Fishery Management Council (GMFMC); Public Meeting

AGENCY: National Marine Fisheries Service (NMFS), National Oceanic and Atmospheric Administration (NOAA), Commerce.

ACTION: Webinar of the SAFMC and GMFMC Joint Committee on South Florida Management Issues.

SUMMARY: The SAFMC and the GMFMC will hold a meeting of the Joint Committee on South Florida Management Issues.

DATES: The meeting will be held via Webinar on Monday, February 25, 2013, from 12:30 p.m. until 4 p.m.

ADDRESSES: Meeting address: The meeting will be held via a GoToMeeting Conference webinar. The webinar is open to members of the public. Those interested in participating should contact Kim Iverson at SAFMC (see FOR FURTHER INFORMATION CONTACT) to request an invitation providing webinar access information. Please request meeting information at least 24 hours in advance of the meeting.

Council address: South Atlantic Fishery Management Council, 4055 Faber Place Drive, Suite 201, N. Charleston, SC 29405; Gulf of Mexico Fishery Management Council, 2203 North Lois Avenue, Suite 1100, Tampa FL 33607.

FOR FURTHER INFORMATION CONTACT: Kim Iverson, Public Information Officer, SAFMC; telephone: (843) 571-4366 or toll free (866) SAFMC-10; fax: (843) 769-4520; email: kim.iverson@safmc.net.

SUPPLEMENTARY INFORMATION: The items of discussion in the committee agenda are as follows:

1. Approve the agenda; state the background and purpose of the meeting; and establish how the joint committee will function.

2. Discuss the following issues: yellowtail snapper management; mutton snapper management; and the commercial harvest of grouper in Monroe County.

3. Discuss the establishment of a special management unit that allows for consistent state and federal fishery regulations across the South Florida area

4. Discuss the allocation of fisheries' landings in Monroe County.

Although non-emergency issues not contained in this agenda may come before this group for discussion, those issues may not be the subject of formal Council action during this meeting. Action will be restricted to those issues specifically identified in this notice and any issues arising after publication of this notice that require emergency action under section 305(c) of the Magnuson-Stevens Fishery Conservation and Management Act, provided the public has been notified of the Council's intent to take final action to address the emergency.

Although non-emergency issues not contained in this agenda may come before this group for discussion, those issues may not be the subject of formal action during this meeting. Action will be restricted to those issues specifically listed in this notice and any issues arising after publication of this notice that require emergency action under section 305(c) of the Magnuson-Stevens Fishery Conservation and Management Act, provided the public has been notified of the Council's intent to take final action to address the emergency.

Special Accommodations

This meeting is physically accessible to people with disabilities. Requests for auxiliary aids should be directed to the council office (see ADDRESSES) 3 days prior to the meeting.

Note: The times and sequence specified in this agenda are subject to change.

Dated: February 1, 2013.
Tracey L. Thompson,
Acting Deputy Director, Office of Sustainable Fisheries, National Marine Fisheries Service.

[FR Doc. 2013-02586 Filed 2-5-13; 8:45 am]

BILLING CODE 3510-22-P